DEPARTMENT OF HEALTH AND HUMAN SERVICES

Health Resources and Services Administration

Meeting of the Advisory Committee on Infant Mortality

AGENCY: Health Resources and Services Administration (HRSA), Department of Health and Human Services (HHS).

ACTION: Notice.

SUMMARY: In accordance with the Federal Advisory Committee Act, this notice announces that the Secretary's Advisory Committee on Infant Mortality (ACIM) has scheduled a public meeting. Information about ACIM and the agenda for this meeting can be found on the ACIM website at https://www.hrsa.gov/advisory-committees/infant-mortality/index.html.

DATES: June 17, 2020, 11:00 a.m.-6:00 p.m. Eastern Time (ET) and June 18, 2020, 11:00 a.m.-3:00 p.m. ET.

ADDRESSES: This meeting will be held via webinar.

• The webinar link will be available at ACIM's website 7 calendar days before the meeting: https://www.hrsa.gov/advisory-committees/infant-mortality/index.html.

• The conference call-in number will be available at ACIM's website 7 calendar days before the meeting: https://www.hrsa.gov/advisory-committees/infant-mortality/index.html.

FOR FURTHER INFORMATION CONTACT: Juliann DeStefano, RN, MPH, at Maternal and Child Health Bureau (MCHB), HRSA, 5600 Fishers Lane, Room 18N-84, Rockville, Maryland 20857; 301-443-0883; or SACIM@hrsa.gov.

SUPPLEMENTARY INFORMATION: The ACIM is authorized by section 222 of the Public Health Service Act (42 U.S.C. 217a), as amended. The Committee is governed by provisions of Public Law 92-463, as amended, (5 U.S.C. App. 2), which sets forth standards for the formation and use of Advisory Committees.

The ACIM advises the Secretary of HHS on department activities and programs directed at reducing infant mortality and improving the health status of pregnant women and infants. The ACIM represents a public-private partnership at the highest level to provide guidance and focus attention on the policies and resources required to address the reduction of infant mortality and the improvement of the health status of pregnant women and infants. With a focus on life course, the ACIM addresses disparities in maternal health to improve maternal health outcomes, including preventing and reducing maternal mortality and severe maternal morbidity. The ACIM provides advice on how best to coordinate myriad federal, state, local, and private programs and efforts that are designed to deal with the health and social problems impacting infant mortality and maternal health, including implementation of the Healthy Start program and maternal and infant health objectives from the National Health Promotion and Disease Prevention Objectives.

The agenda for the June 17-18, 2020, meeting is being finalized and may include the following: Updates from HRSA and MCHB, discussion of COVID-19 and infant and maternal health, and updates on priority topic areas for ACIM to address (equity, data, access, and quality of care). Agenda items are subject to change as priorities dictate. The final meeting agenda will be available 7 calendar days prior to the meeting on the ACIM website: https://www.hrsa.gov/advisory-committees/infant-mortality/index.html.

Members of the public will have the opportunity to provide comments. Public participants may submit written statements in advance of the scheduled meeting. Oral comments will be honored in the order they are requested and may be limited as time allows. Requests to submit a written statement or make oral comments to the ACIM should be sent to Juliann DeStefano, using the contact information above at least 3 business days prior to the meeting.

Individuals who plan to attend and need special assistance or another reasonable accommodation should notify Juliann DeStefano at the contact information listed above at least 10 business days prior to the meeting.

Maria G. Button,
Director, Executive Secretariat.

[FR Doc. 2020-10447 Filed 5-14-20; 8:45 am]

BILLING CODE 4165-15-P